ENVIRONMENTAL PROTECTION AGENCY

[FRL-7961-2]

Proposed Settlement Agreement, Clean Air Act Citizen Suit

AGENCY: Environmental Protection Agency (EPA).

ACTION: Notice of proposed consent decree; request for public comment.

SUMMARY: In accordance with section 113(g) of the Clean Air Act, as amended (“Act”), 42 U.S.C. (7413(g), notice is hereby given of a proposed Consent Decree to address a lawsuit filed by Our Children's Earth Foundation and the Sierra Club (collectively “Plaintiffs”): Our Children's Earth Found. et al. v. U.S. EPA, No. C 05-00094 CW (N.D. Cal.). On or about January 6, 2005, Plaintiffs filed a complaint alleging that EPA had failed to perform a non-discretionary duty to review and, if appropriate, revise the new source performance standards (“NSPS”) for petroleum refineries and equipment leaks as required by Section 111(b) of the Clean Air Act, 42 U.S.C. 7411(b)(1)(B). Under the terms of the proposed Consent Decree, deadlines are established for EPA to review and, if appropriate, revise the NSPS standards for Subparts J, VV and GGG, 40 CFR 60.100-109, 60.480-498, 60.590-593.

DATES: Written comments on the proposed Consent Decree must be received by September 28, 2005.

ADDRESSES: Submit your comments, identified by docket ID number OGC-2005-0013, online at http://www.epa.gov/edocket (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room B102, 1301 Constitution Ave., NW., Washington, DC, between 8:30 a.m. and 4:30 p.m. Monday through Friday, excluding legal holidays. Comments on a disk or CD-ROM should be formatted in WordPerfect or ASCII file, avoiding the use of special characters and any form of encryption, and may be mailed to the mailing address above.

FOR FURTHER INFORMATION CONTACT: Sonja Petersen, Air and Radiation Law Office (2344A), Office of General Counsel, U.S. Environmental Protection Agency, 1200 Pennsylvania Ave., NW., Washington, DC 20460, telephone: (202) 564-4079.

SUPPLEMENTARY INFORMATION:

I. Additional Information About the Proposed Consent Decree

The proposed Consent Decree would resolve the deadline suit filed by Plaintiffs alleging that EPA failed to review and, if appropriate, revise the new source performance standards (“NSPS”) for petroleum refineries and equipment leaks (NSPS subparts J, VV and GGG). The proposed Consent Decree establishes deadlines by which EPA must review and revise all standards in subparts J, VV, and GGG except to the extent that EPA sets forth a proposed determination that review and/or revision is not appropriate. The Consent Decree relates only to these deadlines. It does not require the Administrator to make any specific revisions to the standards.

The Consent Decree provides the following schedule for reviewing and, if appropriate, revising these subparts. EPA must: (1) Within twelve months of entry of the Consent Decree, propose any appropriate revisions to the standards in NSPS subparts VV and GGG; (2) within twenty-four months of entry of the Consent Decree, sign a final rule containing any appropriate revisions to the standards in NSPS subparts VV and GG; (3) within eighteen months of entry of the Consent Decree, propose any appropriate revisions to the standards in NSPS subpart J; and (4) within thirty months from the date of entry of the Consent Decree, sign a final rule containing any appropriate revisions to the standards in NSPS subpart J. In addition, under the proposed Consent Decree, EPA would acknowledge that plaintiffs are eligible and entitled to recover their litigation costs in this action. On July 22, 2005, the parties filed with the Court a notice of lodging of the Consent Decree. This notice informed the Court of the Decree but noted that the Decree was not ready for entry as it is subject to the requirements of section 113(g) of the Clean Air Act.

For a period of thirty (30) days following the date of publication of this notice, the Agency will receive written comments relating to the proposed Consent Decree from persons who were not named as parties or interveners to the litigation in question. EPA or the Department of Justice may withdraw or withhold consent to the proposed Consent Decree if the comments disclose facts or considerations that indicate that such consent is inappropriate, improper, inadequate, or inconsistent with the requirements of the Act. Unless EPA or the Department of Justice determine, based on any comment which may be submitted, that consent to the settlement agreement should be withdrawn, the terms of the Consent Decree will be affirmed.

II. Additional Information About Commenting on the Proposed Consent Decree

A. How Can I Get a Copy of the Consent Decree?

EPA has established an official public docket for this action under Docket ID No. OGC-2005-0013 which contains a copy of the Consent Decree. The official public docket is available for public viewing at the Office of Environmental Information (OEI) Docket in the EPA Docket Center, EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through EPA's electronic public docket and comment system, EPA Dockets. You may use EPA Dockets at http://www.epa.gov/edocket/ to submit or view public comments, to access the index listing the contents of the official public docket, and to access those documents in the public docket that are available electronically. Once in the system, select “search,” then key in the appropriate docket identification number.

It is important to note that EPA's policy is that public comments, whether submitted electronically or in paper, will be made available for public viewing in EPA's electronic public docket as EPA receives them and without change, unless the comment contains copyrighted material, CBI, or other information whose disclosure is restricted by statute. Information claimed as CBI and other information whose disclosure is restricted by statute is not included in the official public docket or in EPA's electronic public docket. EPA's policy is that copyrighted material, including copyrighted material contained in a public comment, will not be placed in EPA's electronic public docket but will be available only in printed, paper form in the official public docket. Although not all docket materials may be available electronically, you may still access any of the publicly available docket materials through the EPA Docket Center.

B. How and To Whom Do I Submit Comments?

You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Your use of EPA's electronic public docket to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through EPA's electronic public docket, your e-mail address is automatically captured and included as part of the comment that is placed in the official public docket, and made available in EPA's electronic public docket.

Dated: August 18, 2005.
Richard B. Ossias,
Acting Associate General Counsel, Air and Radiation Law Office, Office of General Counsel.

[FR Doc. 05-17123 Filed 8-26-05; 8:45 am]

BILLING CODE 6560-50-M